DEPARTMENT OF HEALTH AND HUMAN SERVICES

Centers for Disease Control and Prevention

Advisory Committee to the Director (ACD), Centers for Disease Control and Prevention (CDC)—Ethics Subcommittee (ES)

In accordance with section 10(a)(2) of the Federal Advisory Committee Act (Pub. L. 92-463), the Centers for Disease Control and Prevention (CDC) announces the following meeting of the aforementioned subcommittee:

Times and Dates:

1 p.m.-5 p.m., February 17, 2011; 8:30 a.m.-12:30 p.m., February 18, 2011.

Place: CDC, Thomas R. Harkin Global Communications Center, Distance Learning Auditorium, 1600 Clifton Road, NE., Atlanta, GA 30333. This meeting is also available by teleconference. Please dial (877) 928-1204 and enter code 4305992.

Status: Open to the public, limited only by the space available. The meeting room accommodates approximately 60 people. To accommodate public participation in the meeting, a conference telephone line will be available. The public is welcome to participate during the public comment. The public comment periods are tentatively scheduled for 4 p.m.-4:15 p.m. on February 17, 2011 and from 12 p.m.-12:15 p.m. on February 18, 2011.

Purpose: The ES will provide counsel to the ACD, CDC, regarding a broad range of public health ethics questions and issues arising from programs, scientists and practitioners.

Matter To Be Discussed: Agenda items will include the following: A review of public comments submitted on the ethical considerations document for the allocation of ventilators during a severe pandemic; finalizing the presentation for the ACD on ethical issues related to non-communicable disease prevention and control; and a review of the outcome of discussions with state, tribal, local, and territorial health officers on public health ethics challenges, including an assessment of available options towards the development of practical tools to assist health departments in their efforts to address these challenges.

The agenda is subject to change as priorities dictate.

Contact Person for More Information: For security reasons, members of the public interested in attending the meeting should contact Drue Barrett, PhD, Designated Federal Officer, ACD, CDC-ES, 1600 Clifton Road, NE., M/S D-50, Atlanta, Georgia 30333. Telephone (404) 639-4690. E-mail: dbarrett@cdc.gov. The deadline for notification of attendance is February 11, 2011.

The Director, Management Analysis and Services Office, has been delegated the authority to sign Federal Register notices pertaining to announcements of meetings and other committee management activities, for both CDC and the Agency for Toxic Substances and Disease Registry.

Dated: January 14, 2011.
Lorenzo J. Falgiano,
Acting Director, Management Analysis and Service Office, Centers for Disease Control and Prevention.

[FR Doc. 2011-1232 Filed 1-20-11; 8:45 am]

BILLING CODE 4163-18-P